DEPARTMENT OF HOMELAND SECURITY

Submission for OMB Emergency Review; Comment Request

AGENCY: Office of the Under Secretary for Management, Homeland Security.

ACTION: Submission for OMB Emergency Review; comment request.

DATES: September 8, 2003.

SUMMARY: The Department of Homeland Security (DHS) has submitted the following (see below) information collection request (ICR), utilizing emergency review procedures, to the Office of Management and Budget (OMB) for review and clearance in accordance with the Paperwork Reduction Act of 1995 (Pub. L. 104-13, 44 U.S.C. Chapter 35), as amended by the Clinger-Cohen Act (Pub. L. 104-106). OMB approval has been requested by September 15, 2003. A copy of this ICR, with applicable supporting documentation, may be obtained by calling the Department of Homeland Security, Theresa M. O'Malley (202.358.3571).

Comments: Comments and questions about the ICR listed below should be forwarded to the Office of Information and Regulatory Affairs, Attn: OMB Desk Officer for Homeland Security, Office of Management and Budget, Room 10235, Washington, DC 20503 (202.395.7316; 202.395.6974 = Fax).

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Analysis: Agency: Department of Homeland Security, Under Secretary of Management, Office of the Chief Information Officer.

Title: Support Anti-terrorism by Fostering Effective Technologies Act of 2002 (SAFETY Act).

OMB Number: 1640-new collection.

Frequency: On occasion.

Affected Public: Businesses or other for-profit and not-for-profit institutions.

Number of Respondents: 1,000.

Estimated Time Per Respondent: 20-400; average 120 per respondent.

Total Burden Hours: 120,000.

Total Burden Cost (capital/startup): 0.

Total Burden Cost (operating/maintaining): 0.

Description: As part of the Homeland Security Act of 2002, Public Law 107-296, Congress enacted several liability protections for the providers of anti-terrorism technologies. The SAFETY Act provides incentives for the development and deployment of anti-terrorism technologies by creating a system of risk management and litigation management. The purpose of the Act is to ensure that the threat of liability does not deter potential manufacturers of anti-terrorism technologies from developing and commercializing technologies that could significantly reduce the risks or mitigate the effect of large-scale terrorist events.

Steven I. Cooper,
Chief Information Officer.

[FR Doc. 03-23290 Filed 9-9-03; 3:22 pm]

BILLING CODE 4410-10-P